DEPARTMENT OF ENERGY

Federal Energy Regulatory Commission

[Docket No. AD13-5-000]

Flexible and Local Resources Needed for Reliability in the California Wholesale Electric Market; Notice of Staff Technical Conference

This notice establishes the location and date for the technical conference directed by the Commission in an Order on California Independent System Operator Corporation's (CAISO) proposal to implement an interim flexible capacity and local reliability resource retention mechanism.¹ The technical conference is intended to facilitate a structured dialogue on flexible and local resources at risk of retirement for CAISO and its stakeholders to focus on the development of a market-based mechanism to provide incentives to ensure that the reliability needs are met. The technical conference will be held on July 31, 2013 from 9 a.m. to 4 p.m. and on August 1, 2013 from 9 a.m. to 12:30 p.m. (Pacific Time) in the Auditorium at the California Natural Resources Agency, 1416 Ninth Street, Sacramento, California, 95814. The technical conference will be led by FERC staff, with presentations from panelists. A subsequent notice detailing the topics to be discussed and agenda will be issued in advance of the conference.

¹ Cal. Indep. Sys. Operator Corp., 142 FERC ¶ 61,248 (2013) (March 29 Order).

Those interested in participating in panel discussions should notify the Commission by close of business on June 14 by completing the online form at: https://www.ferc.gov/whats-new/registration/elec-markets-07-31-13-speaker-form.asp. Due to time constraints, staff may not be able to accommodate all of those interested in speaking. After June 14 staff will notify those who are selected to speak at the conference. A supplemental notice will be issued prior to the technical conference with information about the agenda and organization of the technical conference.

There is no fee to attend, and no deadline to register to attend the conference. However, because there will be limited seating for the conference, those attending the conference are encouraged to pre-register by July 17 by filling out the on-line registration form located at: https://www.ferc.gov/whats-new/registration/elec-markets-07-31-13-form.asp.

The technical conference will not be transcribed. However, there will be a free audiocast of the conference. The audiocast will allow persons to listen to the conference, but not participate. Anyone with Internet access who wants to listen can do so by navigating to the Calendar of Events at www.ferc.gov and locating the technical conference in the Calendar. The FERC Web site's link to the technical conference will contain a link to the audiocast. The Capitol Connection provides technical support for the audiocast. If you have questions, visit www.CapitolConnection.org or call 703-992-3100.

FERC conferences are accessible under section 508 of the Rehabilitation Act of 1973. For accessibility accommodations please send an email to accessibility@ferc.gov or call toll free 1-866-208-3372 (voice) or 202-208-8659 (TTY), or send a fax to 202-208-2106 with the required accommodations.

For more information on this conference, please contact Colleen Farrell at colleen.farrell@ferc.gov or (202) 502-6751; or Katheryn Hoke at katheryn.hoke@ferc.gov or (202) 502-8404.

Dated: May 28, 2013.
Nathaniel J. Davis, Sr.,
Deputy Secretary.

[FR Doc. 2013-13581 Filed 6-6-13; 8:45 am]

BILLING CODE 6717-01-P